INTERNATIONAL TRADE COMMISSION

[USITC SE-11-033]

Sunshine Act Meeting Notice

AGENCY HOLDING THE MEETING: United States International Trade Commission.

TIME AND DATE: December 2, 2011 at 11 a.m.

PLACE: Room 100, 500 E Street SW., Washington, DC 20436, Telephone: (202) 205-2000.

STATUS: Open to the public.

Matters To Be Considered

1. Agendas for future meetings: None.

2. Minutes.

3. Ratification List.

4. Vote in Inv. Nos. 701-TA-481 and 731-TA-1190 (Preliminary) (Crystalline Silicon Photovoltaic Cells and Modules from China). The Commission is currently scheduled to transmit its determinations to the Secretary of Commerce on or before December 5, 2011; Commissioners' opinions are currently scheduled to be transmitted to the Secretary of Commerce on or before December 12, 2011.

5. Outstanding action jackets: None.

In accordance with Commission policy, subject matter listed above, not disposed of at the scheduled meeting, may be carried over to the agenda of the following meeting.

By order of the Commission.
Issued: November 18, 2011.
William R. Bishop,
Hearings and Meetings Coordinator.

[FR Doc. 2011-30325 Filed 11-21-11; 11:15 am]

BILLING CODE 7020-02-P